DEPARTMENT OF JUSTICE

Antitrust Division

Notice Pursuant to the National Cooperative Research and Production Act of 1993—Die Products Consortium

Notice is hereby given that, on May 2, 2006, pursuant to Section 6(a) of the National Cooperative Research and Production Act of 1993, 15 U.S.C. 4301 et seq. (“the Act”), Die Products Consortium (“DPC”) has filed written notifications simultaneously with the Attorney general and the Federal Trade Commission disclosing changes in its membership. The notifications were filed for the purpose of extending the Act's provisions limiting the recovery of antitrust plaintiffs to actual damages under specified circumstances. Specifically, AMI Semiconductor, Oudenaarrde, Belgium; Avago Technologies, Singapore, Singapore; and ST Microelectronics, Amsterdam, The Netherlands have been added as parties to this venture. Also, Analog Devices, Inc., Limerick, Ireland; and Chip Supply, Inc., Orlando, FL have withdrawn as parties to this venture.

No other changes have been made in either the membership or planned activity of the group research project. Membership in this group research project remains open, and DPC intends to file additional written notification disclosing all changes in membership.

On November 15, 1999, DPC filed its original notification pursuant to Section 6(a) of the Act. The Department of Justice published a notice in the (Federal Register pursuant to Section 6(b) of the Act on June 26, 2000 (65 FR 39429).

The last notification was filed with the Department on May 26, 2005. A notice was published in the Federal Register pursuant to Section 6(b) of the Act on June 20, 2005 (70 FR 35454).

Dorothy B. Fountain,
Deputy Director of Operations, Antitrust Division.

[FR Doc. 06-4945 Filed 5-30-06; 8:45 am]

BILLING CODE 4410-11-M